DEPARTMENT OF ENERGY

Federal Energy Regulatory Commission

[Docket No. RP03-344-000]

Eastern Shore Natural Gas Company; Notice of Interruptible Revenue Sharing Report

April 22, 2003.

Take notice that on April 15, 2003, Eastern Shore Natural Gas Company (Eastern Shore) tendered for filing its Interruptible Revenue Sharing Report pursuant to section 37 of the General Terms and Conditions of its FERC Tariff and Article V, paragraph 6 of the Stipulation and Agreement in Docket No. RP02-34-000.

Eastern Shore states that it intends to credit a total of $63,845, inclusive of $1,381 of interest, to its firm transportation customers on July 1, 2003. The credit amount represents 90 percent of the net revenues received by Eastern Shore under Rate Schedule IT (in excess of the cost of service allocated to such rate schedule) for the period April 2002 through March 2003.

Any person desiring to be heard or to protest said filing should file a motion to intervene or a protest with the Federal Energy Regulatory Commission, 888 First Street, NE., Washington, DC 20426, in accordance with sections 385.314 or 385.211 of the Commission's rules and regulations. All such motions or protests must be filed on or before the comment date below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 29, 2003.

Magalie R. Salas,
Secretary.

[FR Doc. 03-10471 Filed 4-28-03; 8:45 am]

BILLING CODE 6717-01-P